ENVIRONMENTAL PROTECTION AGENCY

[FRL-9904-64-OA]

Notification of a Public Meeting of the Environmental Justice Technical Guidance Review Panel

AGENCY: Environmental Protection Agency (EPA).

ACTION: Notice.

SUMMARY: The EPA Science Advisory Board (SAB) Staff Office announces a public meeting of the SAB Environmental Justice Technical Guidance Review Panel to provide advice through the Chartered SAB on the agency's Draft Technical Guidance for Assessing Environmental Justice in Regulatory Analysis (May 1, 2013).

DATES: The Environmental Justice Technical Guidance (EJTG) Review Panel public meeting will be held on Thursday January 30, 2014 from 9:00 a.m. to 5:00 p.m. (Eastern Time) and on Friday January 31, 2014 from 9:00 a.m. to 5:00 p.m. (Eastern Time).

ADDRESSES: The public meeting will be held at The Renaissance Arlington Capitol View Hotel, 2800 South Potomac Avenue, Arlington, Virginia 22202.

FOR FURTHER INFORMATION CONTACT: Any member of the public who wants further information concerning the public meeting may contact Dr. Sue Shallal, Designated Federal Officer (DFO), via telephone at (202) 564-2057 or email at shallal.suhair@epa.gov. General information concerning the SAB can be found on the EPA Web site at http://www.epa.gov/sab.

SUPPLEMENTARY INFORMATION: The SAB was established pursuant to the Environmental Research, Development, and Demonstration Authorization Act (ERDDAA), codified at 42 U.S.C. 4365, to provide independent scientific and technical advice to the Administrator on the technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB Environmental Justice Technical Guidance Review Panel will hold a public meeting to discuss the agency's draft technical document that provides information on how to consider environmental justice in regulatory analysis. This SAB panel will provide advice to the Administrator through the chartered SAB.

Background: The EPA's National Center for Environmental Economics along with the Office of Environmental Justice has requested that the SAB peer review their Draft Technical Guidance for Assessing Environmental Justice in Regulatory Analysis (May 1, 2013). The EPA released the draft technical guidance for public comment on May 9, 2013 (see https://www.federalregister.gov/articles/2013/05/09/2013-11165/technical-guidance-for-assessing-environmental-justice-in-regulatory-analysis). The deadline for submitting public comments to the agency was September 6, 2013. Background on this SAB review, including the process for forming this review panel was provided in a Federal Register Notice published on June 4, 2013 (Volume 78 FR 107; 33416-33417). The SAB Panel met on June 19-20, 2013 to learn about the development of the technical guidance, how the EPA currently assesses environmental justice (EJ) concerns and to provide their initial impressions. The purpose of this upcoming meeting is for the SAB Panel to learn about the comments submitted by the public to the agency and to develop draft responses to the charge questions. Additional information about this advisory activity can be found at the following URL: http://yosemite.epa.gov/sab/sabproduct.nsf/fedrgstr_activites/EJ%20Technical%20Guidance?OpenDocument. A meeting agenda and other meeting materials will be posted at the above noted URL prior to the meeting.

Technical Contacts: Any technical questions concerning EPA's draft technical document should be directed to Dr. Kelly Maguire at (202) 566-2273 or by email at maguire.kelly@epa.gov.

Availability of Meeting Materials: Prior to the meeting, the review documents, agenda and other materials will be accessible through the calendar link on the blue navigation bar at http://www.epa.gov/sab/.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Interested members of the public may submit relevant written or oral information on the topic of this advisory activity, and/or the group conducting the activity, for the SAB to consider during the advisory process. Input from the public to the SAB will have the most impact if it provides specific scientific or technical information or analysis for SAB committees to consider or if it relates to the clarity or accuracy of the technical information. Members of the public wishing to provide comment should contact the DFO directly. Oral Statements: In general, individuals or groups requesting an oral presentation at a public meeting will be limited to five minutes. Interested parties should contact Dr. Sue Shallal, DFO, in writing (preferably via email) at the contact information noted above by January 23, 2014, to be placed on the list of public speakers for the meeting. Written Statements: Written statements should be supplied to the DFO via email at the contact information noted above by January 23, 2014 for the meeting so that the information may be made available to the Committee members for their consideration. Written statements should be supplied in one of the following electronic formats: Adobe Acrobat PDF, MS Word, MS PowerPoint, or Rich Text files in IBM-PC/Windows 98/2000/XP format. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Sue Shallal at (202) 564-2057 or shallal.suhair@epa.gov. To request accommodation of a disability, please contact Dr. Shallal preferably at least ten days prior to the meeting to give EPA as much time as possible to process your request.

Dated: December 17, 2013.
Thomas H. Brennan,
Deputy Director, EPA Science Advisory Board Staff Office.

[FR Doc. 2013-30708 Filed 12-23-13; 8:45 am]

BILLING CODE 6560-50-P